Proclamation 9368 of November 13, 2015

America Recycles Day, 2015

By the President of the United States of America

A Proclamation

Every American has a role to play in preserving our planet for future generations. Being good stewards of our environment and protecting our natural resources are imperative tasks for ensuring our children and grandchildren live in a clean and sustainable world, and recycling is a pivotal way each of us can do our part. Today, we acknowledge the importance of reusing materials and reducing consumption, and we recognize that a recycling bin may often be a better alternative to a garbage can.

Each year, as much energy is saved recycling and composting as is consumed by 10 million American households. Over one-third of everything we throw away is recycled or composted, but many items that could be recycled end up in landfills instead. Recycling paper, plastic, glass, batteries, and other reusable items can have tremendous effects on the land we live on, the water we drink, and the air we breathe. It also helps reduce waste, conserve our natural resources, generate well-paying jobs in the recycling and manufacturing industries, and lessen the amount of harmful emissions that contribute to climate change.

Recycling is one way all people can join in the effort of maintaining a sustainable society. Reusing goods and reducing consumption, in addition to donating old or unwanted materials, can have significant impacts on the earth, as well. Individuals and families can help by recycling at home, setting up their own compost piles, choosing to purchase products made from recycled resources, and learning of the many products that can be recycled. Businesses can work to reduce their overall waste and establish recycling programs. And States and local governments can do their part to make recycling easier for consumers by taking simple steps like standardizing the color of recycling bins in public places and effectively communicating recycling policies to residents.

Communities across America must continue promoting activities that encourage people to recycle and to conserve so we do not take for granted today the world our children will inherit tomorrow. We owe it to them to leave behind a stable, secure planet, and that begins with preserving the natural blessings of our Nation. On this day, let us work to fulfill our obligation to our next generation by safeguarding our resources and working with our friends, family, and neighbors to protect the world we share.

NOW, THEREFORE, I, BARACK OBAMA, President of the United States of America, by virtue of the authority vested in me by the Constitution and the laws of the United States, do hereby proclaim November 15, 2015, as America Recycles Day. I call upon the people of the United States to observe this day with appropriate programs and activities, and I encourage all Americans to continue their reducing, reusing, and recycling efforts throughout the year.

IN WITNESS WHEREOF, I have hereunto set my hand this thirteenth day of November, in the year of our Lord two thousand fifteen, and of the Independence of the United States of America the two hundred and fortieth.

[FR Doc. 2015-29629

Filed 11-17-15; 11:15 am]

Billing code 3295-F6-P